DEPARTMENT OF DEFENSE

Office of the Secretary

Renewal of Department of Defense Federal Advisory Committees

AGENCY: DoD.

ACTION: Renewal of Federal Advisory Committee.

SUMMARY: Under the provisions of 10 U.S.C. 175 and 10301, the Federal Advisory Committee Act of 1972 (5 U.S.C. Appendix, as amended), the Government in the Sunshine Act of 1976 (5 U.S.C. 552b) (“the Sunshine Act), and 41 CFR 102-3.50(a), the Department of Defense (DoD) gives notice that it is renewing the charter for the Reserve Forces Policy Board (“the Board”).

FOR FURTHER INFORMATION CONTACT: Jim Freeman, Advisory Committee Management Officer for the Department of Defense, 703-692-5952.

SUPPLEMENTARY INFORMATION: The Board is a non-discretionary Federal advisory committee that shall serve as an independent adviser to the Secretary of Defense to provide advice and recommendations to the Secretary on strategies, policies, and practices designed to improve and enhance the capabilities, efficiency, and effectiveness of the reserve components. The Board may act on those matters referred to it by the Chairman and on any matter raised by a member of the Board or the Secretary of Defense. The Board shall report to the Secretary of Defense. The Under Secretary of Defense for Personnel and Readiness (USD(P&R)) may act upon the Board's advice and recommendations.

The Department of Defense (DoD), through the office of the USD(P&R) shall provide support as deemed necessary, for the Board's performance and shall ensure compliance with the requirement of FACA, the Sunshine Act, governing Federal statutes and regulations, and established policies and procedures.

The Board consists of 20 members, appointed or designated as follows:

a. A civilian appointed by the Secretary of Defense from among persons determined by the Secretary to have the knowledge of, and experience in, policy matters relevant to national security and reserve component matters necessary to carry out the duties of chair of the Board, who shall serve as chair of the Board.

b. Two active or retired reserve officers or enlisted members designated by the Secretary of Defense upon the recommendation of the Secretary of the Army:

1. One of whom shall be a member of the Army National Guard of the United States or a former member of the Army National Guard of the United States in the Retired Reserve; and

2. One of whom shall be a member or retired member of the Army Reserve.

c. Two active or retired reserve officers or enlisted members designated by the Secretary of Defense upon recommendation of the Secretary of the Navy:

1. One of whom shall be an active or retired officer of the Navy Reserve; and

2. One of whom shall be an active or retired officer of the Marine Corps Reserve.

d. Two active or retired reserve officers or enlisted members designated by the Secretary of Defense upon the recommendation of the Secretary of the Air Force:

1. One of whom shall be a member of the Air National Guard of the United States or a former member of the Air National Guard of the United States in the Retired Reserve; and

2. One of whom shall be a member or retired member of the Air Force Reserve.

e. One active or retired reserve officer or enlisted member of the U.S. Coast Guard designated by the Secretary of Homeland Security.

f. Ten persons appointed or designated by the Secretary of Defense, each of whom shall be a United States citizen having significant knowledge of and experience in policy matters relevant to national security and reserve component matters and shall be one of the following:

1. An individual not employed in any Federal or State department or agency.

2. An individual employed by a Federal or State department or agency.

3. An officer of a regular component of the armed forces on active duty, or an officer of a reserve component of the armed forces in an active status, who: (a) Is serving or has served in a senior position on the Joint Staff, the headquarters staff of a combatant command, or the headquarters staff of an armed force; and (b) Has experience in joint professional military education, joint qualification, and joint operations matters.

g. A reserve officer of the Army, Navy, Air Force, or Marine Corps who is a general or flag officer recommended by the chair and designated by the Secretary of Defense, who shall serve without vote—

1. As military adviser to the chair;

2. As military executive officer of the Board; and

3. As supervisor of the operations and staff of the Board.

h. A senior enlisted member of a reserve component recommended by the chair and designated by the Secretary of Defense, who shall serve without vote as enlisted military adviser to the chair.

Members of the Board appointed by the Secretary of Defense, who are not full-time or permanent part-time Federal employees, shall be appointed as experts and consultants under the authority of 5 U.S.C. 3109 to serve as special government employee (SGE) members. Members of the Board appointed by the Secretary of Defense, who are full-time or permanent part-time Federal employees, shall serve as regular government employee (RGE) members. All members of the Board are appointed to provide advice to the government on the basis of their best judgment without representing any particular point of view and in a manner that is free from conflict of interest. Members of the Board shall serve a term of service of three years, and their appointments must be renewed by the Secretary of Defense on an annual basis. Members shall not serve more than two consecutive terms of service without approval of the Secretary of Defense.

All members of the Board will receive compensation for travel and per diem as it pertains to official business of the Board. Members of the Board who are appointed by the Secretary as SGE members will serve without compensation.

The Department, when necessary and consistent with the Board's mission and DoD policies and procedures, may establish subcommittees, task groups, and working groups to support the Board. Establishment of subcommittees will be based on a written determination, to include terms of reference, by the Secretary of Defense, the Deputy Secretary of Defense, or the USD(P&R).

The Department will establish four permanent subcommittees. The subcommittees will have no more than 15 members and will normally meet once per quarter. A subcommittee Chairperson will be appointed by the Secretary of Defense. The four permanent subcommittees and their missions are:

a. Subcommittee on Creating a Continuum of Service will examine what programs and processes are key to allowing personnel to seamlessly meet DoD's requirements.

b. Subcommittee on Enhancing DoD's Role in the Homeland is focused on improving the capability and capacity of the Reserve Component to address the increasing threats to the homeland.

c. Subcommittee on Insuring a Ready, Capable, Available, and Sustainable Operational Reserve is focused on retaining the operational capability & experience within the Reserve Component to meet future threats.

d. Subcommittee on Supporting Service Members, Families & Employers assesses whether the current programs and policies are meeting the needs of an operational reserve.

Such subcommittees shall not work independently of the Board, and shall report all their recommendations and advice solely to the Board for full deliberation and discussion. Subcommittees have no authority to make decisions and recommendations, verbally or in writing, on behalf of the Board; nor can any subcommittee or their members report directly to the DoD or any Federal officers or employees.

All subcommittee members will be appointed in the same manner as the Board members; that is, the Secretary of Defense will appoint subcommittee members even if the member in question is already a member of the Board.

Subcommittee members, if not full-time or part-time government employees, shall be appointed to serve as experts and consultants under the authority of 5 U.S.C. 3109 and to serve as special government employees. Subcommittee members shall serve a term of service of three years, and their appointments must be renewed by the Secretary of Defense on an annual basis. Subcommittee members shall not serve more than two consecutive terms of service without approval of the Secretary of Defense. With the exception of travel and per diem for official travel related to the Board or its subcommittees, subcommittee members shall serve without compensation.

Each subcommittee member is appointed to provide advice to the government on the basis of his or her best judgment without representing any particular point of view and in a manner that is free from conflict of interest.

All subcommittees operate under the provisions of FACA, the Sunshine Act, other governing Federal statutes and regulations, and governing DoD policies and procedures.

The Board shall meet at the call of the Board's Designated Federal Officer (DFO), in consultation with Board's Chairperson and the estimated number of Board meetings is four per year.

The Board's DFO, pursuant to DoD policy, shall be a full-time or permanent part-time DoD employee, and shall be appointed in accordance with established DoD policies and procedures.

The Board's DFO is required to be in attendance at all meetings of the Board and its subcommittees for the entire duration of each and every meeting. However, in the absence of the Board's DFO, a properly approved Alternate DFO, duly appointed to the Board according to DoD policies and procedures, shall attend the entire duration of meetings of the Board or subcommittee meetings.

The DFO, or the Alternate DFO, will approve or call all of the Board's and its subcommittee meetings; prepare and approve all meeting agendas; and adjourn any meeting when the DFO, or the Alternate DFO, determines adjournment to be in the public interest or required by governing regulations or DoD policies and procedures.

Pursuant to 41 CFR 102-3.105(j) and 102-3.140, the public or interested organizations may submit written statements to Reserve Forces Policy Board membership about the Board's mission and functions. Written statements may be submitted at any time or in response to the stated agenda of planned meeting of Reserve Forces Policy Board.

All written statements shall be submitted to the Designated Federal Officer for the Reserve Forces Policy Board, and this individual will ensure that the written statements are provided to the membership for their consideration. Contact information for the Reserve Forces Policy Board's DFO can be obtained from the GSA's FACA Database— https://www.fido.gov/facadatabase/public.asp.

The DFO, pursuant to 41 CFR 102-3.150, will announce planned meetings of the Reserve Forces Policy Board. The DFO, at that time, may provide additional guidance on the submission of written statements that are in response to the stated agenda for the planned meeting in question.

Dated: April 16, 2013.
Aaron Siegel,
Alternate OSD Federal Register Liaison Officer, Department of Defense.

[FR Doc. 2013-09339 Filed 4-19-13; 8:45 am]

BILLING CODE 5001-06-P